DEPARTMENT OF AGRICULTURE

Office of the Secretary

Solicitation of Input From Stakeholders on the Roadmap for Agricultural Research, Education, and Extension

AGENCY: Research, Education, and Economics Office, USDA.

ACTION: Notice of Public comment period for written stakeholder input; correction.

SUMMARY: The Research, Education, and Extension Office (REEO) of the Research, Education, and Economics (REE) Mission Area of the Department of Agriculture published a document in the Federal Register on April 1, 2009, concerning written stakeholder input on the preparation of a roadmap for the REEO. The document contained an incorrect word in the background and purpose section which is listed under the supplementary information section of the notice.

FOR FURTHER INFORMATION CONTACT: Michele Simmons, 202-720-1777.

Correction

In the Federal Register of April 1, 2009, in FR Doc. E9-7252, on page 14768, in the fifth column, correct section to read as follows:

Background and Purpose

The preparation of the roadmap for agricultural research, education, and extension is mandated in section 7504 of the Food, Conservation, and Energy Act (FCEA) of 2008, (Pub. L. 110-246, U.S.C. 7614a). The Secretary, acting through the Under Secretary for Research, Education, and Extension (Under Secretary), will prepare the Roadmap.

Dated: April 3, 2009.
Yvette Anderson,
Federal Register Liaison Officer for Agriculture Research Service.

[FR Doc. E9-8057 Filed 4-9-09; 8:45 am]

BILLING CODE 3410-10-M